DEPARTMENT OF DEFENSE

Department of the Navy

Notice of Availability (NOA) of a Draft Environmental Assessment for the Use of a More Efficient Shipping Container System for Spent Nuclear Fuel From Naval Aircraft Carriers

AGENCY: Department of the Navy, DoD.

ACTION: Notice.

SUMMARY: Pursuant to the National Environmental Policy Act (NEPA) of 1969, as amended (42 U.S.C. 4321 et seq.), the Council on Environmental Quality Regulations for Implementing the Procedural Provisions of NEPA (40 CFR parts 1500-1508), and the Chief of Naval Operations Environmental and Natural Resources Program Manual (OPNAV Instruction 5090.1B), the Department of the Navy, Naval Nuclear Propulsion Program, announces the availability of a draft Environmental Assessment (EA) on the potential environmental impacts associated with using a more efficient shipping container system for spent nuclear fuel to support defueling and refueling U.S. Navy nuclear-powered aircraft carriers at Newport News Shipbuilding and Dry Dock Company (NNS) in Virginia, and the associated rail shipment of this spent nuclear fuel to the Naval Reactors Facility (NRF) in Idaho for temporary storage.

DATES: Interested parties are invited to provide comments on environmental issues and concerns relative to this draft EA, on or before July 24, 2007, to ensure full consideration during the completion of the EA.

ADDRESSES: All comments should include name, organization, and mailing address. Written comments should be addressed to Mr. Alan Denko (08U-Naval Reactors), Naval Sea Systems Command, 1240 Isaac Hull Ave SE. Stop 8036, Washington Navy Yard, DC 20376-8036. Comments provided by E-Mail should use the following address: snfshippingcontainer@bettis.gov. Comments provided via phone should use this number: 1-866-369-4802.

Copies of the draft EA are available by submitting a written request to the address above. A copy of the draft EA is also available for public review at the http://www.snfshippingcontainer.us web site.

The draft EA may also be reviewed at the following locations: United States Department of Energy Public Reading Room, Idaho Falls, ID; Boise State University, Boise, ID; and Newport News Public Library Main Street Branch, Newport News, VA.

SUPPLEMENTARY INFORMATION: The Environmental Assessment (EA) evaluates the potential environmental impacts of using a proposed new longer, more efficient shipping container system, designated the M-290 shipping container, for transport of naval spent nuclear fuel from nuclear-powered aircraft carriers. Use of the M-290 shipping container would provide improved support for aircraft carrier defueling and refueling schedules to meet the operational needs of the U.S. Navy fleet, while continuing to provide for public safety and environmental protection. The Navy manages naval spent nuclear fuel consistent with “Department of Energy (DOE) Programmatic Spent Nuclear Fuel Management and Idaho National Engineering Laboratory Environmental Restoration and Waste Management Programs Final Environmental Impact Statement (60 FR 20979, Apr. 28, 1995)”; and the 1995 Settlement Agreement/Consent Order among the State of Idaho, the DOE, and the Navy concerning the management of naval spent nuclear fuel. The potential environmental impacts associated with the Proposed Action are similar to those addressed in previous Environmental Impact Statements associated with the use of existing shipping container systems, which concluded that impacts upon the environment would be small. Public comments to this EA must be received by July 24,2007 to ensure their consideration in the preparation of the final EA and determination of whether a Finding of No Significant Impact is appropriate.

Dated: June 18, 2007.
L.R. Almand,
Office of the Judge Advocate General, U.S. Navy, Administrative Law Division, Federal Register Liaison Officer.

[FR Doc. E7-12032 Filed 6-20-07; 8:45 am]

BILLING CODE 3810-FF-P